DEPARTMENT OF TRANSPORTATION

Federal Aviation Administration

14 CFR Part 71

[Docket No. FAA-2017-0610; Airspace Docket No. 17-AEA-13]

RIN 2120-AA66

Revocation of Class E Airspace; Seven Springs, PA, and Amendment of Class E Airspace; Somerset, PA

AGENCY: Federal Aviation Administration (FAA), DOT.

ACTION: Final rule, correction.

SUMMARY: This action corrects a final rule published in the Federal Register on April 20, 2018, amending and removing Class E airspace at Seven Springs, PA, by correcting the geographic coordinates in the legal description of Class E airspace extending upward from 700 feet or more above the surface for Somerset County Airport.

DATES: Effective 0901 UTC, July 19, 2018. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The FAA published a final rule in the Federal Register (83 FR 17480, April 20, 2018) for Doc. No. FAA-2017-0610, amending Class E airspace extending upward from 700 feet or more above the surface at Somerset County Airport, Somerset, PA. Subsequent to publication, the FAA found that the geographic coordinates of the airport listed in the description under Class E airspace area extending upward from 700 feet above the surface were incorrect. This action corrects the error.

Class E airspace designations are published in paragraph 6005, of FAA Order 7400.11B dated August 3, 2017, and effective September 15, 2017, which is incorporated by reference in 14 CFR part 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Correction to Final Rule

Accordingly, pursuant to the authority delegated to me, in the Federal Register of April 20, 2018 (83 FR 17480) FR Doc. 2018-08037, the amendment of Class E Airspace for Somerset County Airport, Somerset, PA, is corrected as follows:

§ 71.1 [Amended]

AEA PA E5 Somerset, PA [Amended]

On page 17481, column 3 line 22, remove (Lat. 40°02′20″ N, long. 79°00′54″ W) and add in its place (Lat. 40°02′19″ N, long. 79°00′55″ W).

Issued in College Park, Georgia, on May 31, 2018.
Ryan W. Almasy,
Manager, Operations Support Group, Eastern Service Center, Air Traffic Organization.

[FR Doc. 2018-12411 Filed 6-8-18; 8:45 am]

BILLING CODE 4910-13-P